DEPARTMENT OF ENERGY

Federal Energy Regulatory Commission

[Docket No. CP00-393-000]

Wyoming Interstate Company, LTD.; Notice of Request Under Blanket Authorization

June 23, 2000.

Take notice that on June 20, 2000, Wyoming Interstate Company, LTD. (WIC), Post Office box 1087, Colorado Springs, Colorado 80944, filed a request with the Commission in Docket No. CP00-393-000, pursuant to section 157.205, 157.211 and/or 157.216(b) of the Commission's Regulations under the Natural Gas Act (NGA) for authorization to construct a new meter station for delivery of gas to Coastal Chem, Inc. authorized in blanket certificate issued in Docket No. CP83-22-000, all as more fully set forth in the request on file with the Commission and open to public inspection. This filing may be viewed on the web at http://www.ferc.fed.us/online/rims.htm (call 202-208-2222 for assistance).

WIC states that Coastal Chem, Inc. a manufacturer of nitrogen based fertilizer to provide fuel gas for their processing facility in Laramie County, Wyoming. The proposed WIC delivery facility would consist of an eight-inch meter run with four-inch flow control valve and appurtenant facilities at an estimated cost of $240,000 plus tax gross up. Coastal Chem, Inc. would pay for the facility. The Coastal Chem, Inc. manufacturing facility is currently served by Cheyenne Light, Fuel and Power Company, a local distribution company.

Any person for the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA.

Linwood A. Watson, Jr.,
Acting Secretary.

[FR Doc. 00-16422 Filed 6-28-00; 8:45 am]

BILLING CODE 6717-01-M